SMALL BUSINESS ADMINISTRATION

[Disaster Declaration # 11690 and # 11691]

Texas Disaster # TX-00334

AGENCY: Small Business Administration.

ACTION: Amendment 1.

SUMMARY: This is an amendment of the Administrative declaration of disaster for the State of Texas dated 03/10/2009.

Incident: Bastrop County Wildland Fire.

Incident Period: 02/28/2009 through 03/13/2009.

Effective Date: 03/17/2009.

Physical Loan Application Deadline Date: 5/11/2009.

Economic Injury (EIDL) Loan Application Deadline Date: 12/10/2009.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416

SUPPLEMENTARY INFORMATION: The notice of the Administrator's disaster declaration in the State of Texas, dated 03/10/2009, is hereby amended to establish the incident period for this disaster as beginning 02/28/2009 and continuing through 03/13/2009.

All other information in the original declaration remains unchanged.

(Catalog of Federal Domestic Assistance Numbers 59002 and 59008)

Dated: March 18, 2009.
Darryl K. Hairston,
Acting Administrator.

[FR Doc. E9-6742 Filed 3-25-09; 8:45 am]

BILLING CODE 8025-01-P